DEPARTMENT OF COMMERCE

International Trade Administration

[A-557-805]

Extruded Rubber Thread From Malaysia; Notice of Amended Final Results of Antidumping Duty Administrative Review

AGENCY: Import Administration, International Trade Administration, Department of Commerce.

DATES: Effective Date: [Insert date of publication in the Federal Register].

FOR FURTHER INFORMATION CONTACT: Elizabeth Eastwood, AD/CVD Operations, Office 2, Import Administration, International Trade Administration, U.S. Department of Commerce, 14th Street and Constitution Avenue NW., Washington, DC, 20230; telephone (202) 482-3874.

SUPPLEMENTARY INFORMATION:

Amended Final Results

On March 16, 1998, the Department of Commerce (the Department) published the final results of its administrative review of the antidumping duty order on extruded rubber thread from Malaysia.¹ The period of review (POR) is October 1, 1995, through September 30, 1996.

¹ See Extruded Rubber Thread From Malaysia; Final Results of Antidumping Duty Administrative Review, 63 FR 12752 (Mar. 16, 1998) (Final Results).

Following the publication of the final results, Heveafil Sdn. Bhd.² and Filmax Sdn. Bhd. (collectively, “Heveafil”) filed a lawsuit with the United States Court of International Trade (CIT) challenging the Department's use of adverse facts available (AFA) to determine its dumping margin. On February 28, 2001, the CIT affirmed the Department's Final Results in relevant part.³

² Heveafil Sdn. Bhd. is also known as Heveafil Sdn.

³ See Heveafil et al. v. United States, Slip Op. 2001-23 (CIT 2001). While the CIT remanded to the Department its duty absorption inquiry, on August 9, 2001, it affirmed the Department's final results of remand redetermination on this issue. As the result of the remand redetermination, the Department did not change Heveafil's AFA rate.

Heveafil appealed the CIT's February 28, 2001, decision before the Court of Appeals for the Federal Circuit (CAFC). On March 19, 2003, the CAFC affirmed the Department's use of AFA to determine Heveafil's dumping margin in the Final Results; however, it remanded to the CIT the specific rate assigned as AFA because the source of the corroboration of this rate was invalidated after the Final Results.⁴ Pursuant to the CAFC's decision, on May 28, 2003, the CIT remanded this case to the Department to assign a new AFA margin to Heveafil.⁵ On September 4, 2003, the Department filed its remand results with the Court, assigning Heveafil a revised AFA margin of 52.89 percent.⁶

⁴ See Heveafil Sdn. Bhd. v. U.S., 58 Fed. Appx. 843 (Fed. Cir. 2003).

⁵ See Heveafil Sdn. Bhd. and Filati Lastex Sdn. Bhd. v. United States, Court No. 98-00908 (CIT May 28, 2003).

⁶ The Court had stayed this litigation pending the outcome of a challenge to the effective date of the revocation of the order on extruded rubber thread from Malaysia. See Extruded Rubber Thread From Malaysia; Notice of Final Results of Changed Circumstances Review of the Antidumping Duty Order and Intent To Revoke Antidumping Duty Order, 69 FR 51989 (Aug. 24, 2004) (Revocation of AD Order).

On June 25, 2013, the United States and Heveafil entered into an agreement to settle this dispute and requested a stipulated judgment. On September 4, 2013, the CIT issued an order of stipulated judgment. Consistent with the June 2013 agreement and the stipulated judgment, we will instruct U.S. Customs and Border Protection to liquidate all unliquidated entries of certain extruded rubber thread from Malaysia produced and/or exported by Heveafil, and entered, or withdrawn from warehouse, for consumption in the United States during the POR at the rate of duty in effect at the time of entry. However, we are not establishing a revised cash deposit rate for Heveafil because the antidumping duty order on extruded rubber thread from Malaysia was revoked on August 24, 2004, with an effective date of October 1, 2003.⁷

⁷ See Revocation of AD Order, 69 FR at 51989.

We are issuing this determination and publishing these amended final results and notice in accordance with 19 U.S.C. 1516a(e).

Dated: September 18, 2013.
Paul Piquado,
Assistant Secretary for Import Administration.

[FR Doc. 2013-23208 Filed 9-23-13; 8:45 am]

BILLING CODE 3510-DS-P